DEPARTMENT OF ENERGY

Federal Energy Regulatory Commission

Combined Notice of Filings

Take notice that the Commission has received the following Natural Gas Pipeline Rate and Refund Report filings and Accounting Request filings:

Filings Instituting Proceedings

Docket Numbers: AC26-29-000.

Applicants: Black Hills Shoshone Pipeline, LLC.

Description: Black Hills Shoshone Pipeline, LLC submits request for new two-year waiver of Certified Public Accountant Certification Statement set out in the FERC Form No. 2-A.

Filed Date: 2/25/26.

Accession Number: 20260225-5176.

Comment Date: 5 p.m. ET 3/27/26.

Docket Numbers: RP26-523-000.

Applicants: Elba Express Company, L.L.C.

Description: § 4(d) Rate Filing: EEC Fuel Tracker Filing—2026 to be effective 4/1/2026.

Filed Date: 2/25/26.

Accession Number: 20260225-5146.

Comment Date: 5 p.m. ET 3/9/26.

Docket Numbers: RP26-524-000.

Applicants: El Paso Natural Gas Company, L.L.C.

Description: § 4(d) Rate Filing: Negotiated Rate Agreement Update (Luminant) to be effective 4/1/2026.

Filed Date: 2/25/26.

Accession Number: 20260225-5196.

Comment Date: 5 p.m. ET 3/9/26.

Docket Numbers: RP26-525-000.

Applicants: El Paso Natural Gas Company, L.L.C.

Description: § 4(d) Rate Filing: Negotiated Rate Agreement Update (Pioneer March 2026) to be effective 3/1/2026.

Filed Date: 2/25/26.

Accession Number: 20260225-5199.

Comment Date: 5 p.m. ET 3/9/26.

Docket Numbers: RP26-526-000.

Applicants: Sabine Pipe Line LLC.

Description: Compliance filing: 2026 FRP and UFRP Waiver Request to be effective N/A.

Filed Date: 2/26/26.

Accession Number: 20260226-5000.

Comment Date: 5 p.m. ET 3/10/26.

Docket Numbers: RP26-527-000.

Applicants: Mountain Valley Pipeline, LLC.

Description: Compliance filing: MVP Annual Transportation Retainage Report—2025 to be effective N/A.

Filed Date: 2/26/26.

Accession Number: 20260226-5002.

Comment Date: 5 p.m. ET 3/10/26.

Docket Numbers: RP26-528-000.

Applicants: Equitrans, L.P.

Description: § 4(d) Rate Filing: 3-1-2026 Formula Based Negotiated Rates to be effective 3/1/2026.

Filed Date: 2/26/26.

Accession Number: 20260226-5003.

Comment Date: 5 p.m. ET 3/10/26.

Docket Numbers: RP26-529-000.

Applicants: Eastern Gas Transmission and Storage, Inc.

Description: § 4(d) Rate Filing: EGTS—26.02.26 Nonconforming Agreements to be effective 4/1/2026.

Filed Date: 2/26/26.

Accession Number: 20260226-5029.

Comment Date: 5 p.m. ET 3/10/26.

Docket Numbers: RP26-530-000.

Applicants: Northwest Pipeline LLC.

Description: § 4(d) Rate Filing: 2026 Summer Fuel Filing to be effective 4/1/2026.

Filed Date: 2/26/26.

Accession Number: 20260226-5051.

Comment Date: 5 p.m. ET 3/10/26.

Docket Numbers: RP26-531-000.

Applicants: Iroquois Gas Transmission System, L.P.

Description: § 4(d) Rate Filing: 2.26.26 Negotiated Rates—Vitol Inc. R-7495-30 to be effective 3/1/2026.

Filed Date: 2/26/26.

Accession Number: 20260226-5061.

Comment Date: 5 p.m. ET 3/10/26.

Docket Numbers: RP26-532-000.

Applicants: Iroquois Gas Transmission System, L.P.

Description: § 4(d) Rate Filing: 2.26.26 Negotiated Rates—Vitol Inc. R-7495-29 to be effective 3/1/2026.

Filed Date: 2/26/26.

Accession Number: 20260226-5063.

Comment Date: 5 p.m. ET 3/10/26.

Docket Numbers: RP26-533-000.

Applicants: Iroquois Gas Transmission System, L.P.

Description: § 4(d) Rate Filing: 2.26.26 Negotiated Rates—Castleton Commodities Merchant Trading L.P. R-4010-06 to be effective 3/1/2026.

Filed Date: 2/26/26.

Accession Number: 20260226-5065.

Comment Date: 5 p.m. ET 3/10/26.

Docket Numbers: RP26-534-000.

Applicants: Mountain Valley Pipeline, LLC.

Description: § 4(d) Rate Filing: Remove Expired Agreement—4/1/2026 to be effective 4/1/2026.

Filed Date: 2/26/26.

Accession Number: 20260226-5080.

Comment Date: 5 p.m. ET 3/10/26.

Docket Numbers: RP26-535-000.

Applicants: Sabal Trail Transmission, LLC.

Description: § 4(d) Rate Filing: Negotiated Rate Filing FPL 850109 to be effective 4/1/2026.

Filed Date: 2/26/26.

Accession Number: 20260226-5089.

Comment Date: 5 p.m. ET 3/10/26.

Docket Numbers: RP26-536-000.

Applicants: Midcontinent Express Pipeline LLC.

Description: § 4(d) Rate Filing: MEP Cashout Filing and Report of Operational Purchases and Sales February 2026 to be effective 4/1/2026.

Filed Date: 2/26/26.

Accession Number: 20260226-5100.

Comment Date: 5 p.m. ET 3/10/26.

Docket Numbers: RP26-537-000.

Applicants: Equitrans, L.P.

Description: § 4(d) Rate Filing: Remove Terminated Negotiated Rate Agreement—4/1/2026 to be effective 4/1/2026.

Filed Date: 2/26/26.

Accession Number: 20260226-5114.

Comment Date: 5 p.m. ET 3/10/26.

Docket Numbers: RP26-538-000.

Applicants: Leaf River Energy Center LLC.

Description: § 4(d) Rate Filing: Leaf River Non-Conforming Agreements Filing to be effective 4/1/2026.

Filed Date: 2/26/26.

Accession Number: 20260226-5137.

Comment Date: 5 p.m. ET 3/10/26.

Docket Numbers: RP26-539-000.

Applicants: TransCameron Pipeline, LLC.

Description: § 4(d) Rate Filing: Annual Rate and Fuel Filing Normal 2026 to be effective 4/1/2026.

Filed Date: 2/26/26.

Accession Number: 20260226-5142.

Comment Date: 5 p.m. ET 3/10/26.

Docket Numbers: RP26-540-000.

Applicants: Venture Global Gator Express, LLC.

Description: § 4(d) Rate Filing: Annual FL U Rates 2026 to be effective 4/1/2026.

Filed Date: 2/26/26.

Accession Number: 20260226-5145.

Comment Date: 5 p.m. ET 3/10/26.

Docket Numbers: RP26-541-000.

Applicants: NEXUS Gas Transmission, LLC.

Description: § 4(d) Rate Filing: Name Change Cleanup—EAP Ohio to be effective 3/30/2026.

Filed Date: 2/26/26.

Accession Number: 20260226-5165.

Comment Date: 5 p.m. ET 3/10/26.

Docket Numbers: RP26-542-000.

Applicants: BBT Midla, LLC.

Description: Annual Unaccounted for Gas Retention Percentage of BBT Midla, LLC.

Filed Date: 2/26/26.

Accession Number: 20260226-5171.

Comment Date: 5 p.m. ET 3/10/26.

Docket Numbers: RP26-543-000.

Applicants: Wyoming Interstate Company, L.L.C.

Description: § 4(d) Rate Filing: Non-Conforming Agreement Update (Sequent TSA 219208) to be effective 4/1/2026.

Filed Date: 2/26/26.

Accession Number: 20260226-5170.

Comment Date: 5 p.m. ET 3/10/26.

Docket Numbers: RP26-544-000.

Applicants: Northwest Pipeline LLC.

Description: § 4(d) Rate Filing: Initial Rate—KB Lateral to be effective 4/1/2026.

Filed Date: 2/26/26.

Accession Number: 20260226-5184.

Comment Date: 5 p.m. ET 3/10/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP23-1032-003.

Applicants: Osaka Gas Trading & Export LLC.

Description: Osaka Gas Trading & Export LLC submits Annual Report of Purchased Capacity pursuant to the waiver order.

Filed Date: 2/26/26.

Accession Number: 20260226-5052.

Comment Date: 5 p.m. ET 3/10/26

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 26, 2026.
Carlos D. Clay,
Deputy Secretary.

[FR Doc. 2026-04163 Filed 3-2-26; 8:45 am]

BILLING CODE 6717-01-P